DEPARTMENT OF ENERGY

Federal Energy Regulatory Commission

Combined Notice Of Filings

Take notice that the Commission has received the following Natural Gas Pipeline Rate and Refund Report filings:

Filings Instituting Proceedings

Docket Number: PR19-45-001.

Applicants: EnLink LIG, LLC.

Description: Tariff filing per 284.123(b),(e)+(g): Amendment of Petition for Rate Approval and SOC to be effective 4/23/2019.

Filed Date: 4/23/19.

Accession Number: 201904235064.

Comments Due: 5 p.m. ET 5/14/19.

284.123(g) Protests Due: 5 p.m. ET 6/24/19.

Docket Number: PR19-57-000.

Applicants: Southern California Gas Company.

Description: Tariff filing per 284.123(b),(e)+(g): Offshore Delivery Service Rate Revision—April 2019 to be effective 4/1/2019.

Filed Date: 4/24/19.

Accession Number: 201904245003.

Comments Due: 5 p.m. ET 5/15/19.

284.123(g) Protests Due: 5 p.m. ET 6/24/19.

Docket Numbers: RP19-1147-000.

Applicants: Rockies Express Pipeline LLC.

Description: Compliance filing NAESB 3.1 Compliance Filing to be effective 8/1/2019.

Filed Date: 4/24/19.

Accession Number: 20190424-5000.

Comments Due: 5 p.m. ET 5/6/19.

Docket Numbers: RP19-1148-000.

Applicants: Discovery Gas Transmission LLC.

Description: Imbalance Cash-out Report for 2018 Activity for Discovery Gas Transmission LLC under RP19-1148.

Filed Date: 4/24/19.

Accession Number: 20190424-5068.

Comments Due: 5 p.m. ET 5/6/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2019.
Nathaniel J. Davis, Sr.,
Deputy Secretary.

[FR Doc. 2019-08834 Filed 4-30-19; 8:45 am]

BILLING CODE 6717-01-P